DEPARTMENT OF THE INTERIOR

Fish and Wildlife Service

[FWS-R1-ES-2024-N003; FXES11130100000C4-245-FF01E00000]

Endangered and Threatened Wildlife and Plants; Initiation of 5-Year Status Reviews for 100 Species in American Sāmoa, California, Hawaii, Idaho, Oregon, and Washington

AGENCY: Fish and Wildlife Service, Interior.

ACTION: Notice of initiation of reviews; request for information.

SUMMARY: We, the U.S. Fish and Wildlife Service, are initiating 5-year status reviews for 100 species in American Sāmoa, California, Hawaii, Idaho, Oregon, and Washington under the Endangered Species Act of 1973. Three of these species also occur outside of United States jurisdiction, in Canada and the South Pacific. A 5-year status review is based on the best scientific and commercial data available at the time of the review; therefore, we are requesting submission of any new information on these species that has become available since the last reviews.

DATES: To ensure consideration in our reviews, we are requesting submission of new information no later than May 20, 2024. However, we will continue to accept new information about any species at any time.

ADDRESSES: Submitting Information on Species:

• Any of the 89 species occurring in Hawaii or American Sāmoa:

U.S. mail: Field Supervisor, Attention: 5-Year Review, U.S. Fish and Wildlife Service, Pacific Islands Fish and Wildlife Office, 300 Ala Moana Blvd., Room 3-122, Honolulu, HI 96850; or

Email: pifwo_admin@fws.gov.

• Woodland caribou and Spalding's catchfly:

U.S. mail: State Supervisor, Attention: 5-Year Review, U.S. Fish and Wildlife Service, Idaho Fish and Wildlife Office, 1387 S Vinnell Way, Suite 368, Boise, ID 83709; or

Email: ifwo@fws.gov.

• Oregon silverspot butterfly:

U.S. mail: State Supervisor, Attention: 5-Year Review, U.S. Fish and Wildlife Service, Oregon Fish and Wildlife Office, 2600 SE 98th Ave., Suite 100, Portland, OR 97266; or

Email: fw1ofwo@fws.gov.

• Pocket gophers, island marble butterfly, showy stickseed, White Bluffs bladderpod, and Wenatchee Mountains checkermallow:

U.S. mail: State Supervisor, Attention: 5-Year Review, U.S. Fish and Wildlife Service, Washington Fish and Wildlife Office, 510 Desmond Dr. Southeast, Suite 102, Lacey, WA 98503; or

Email: WFWO_LR@fws.gov.

FOR FURTHER INFORMATION CONTACT: For general information, please contact Grant Canterbury, Regional Recovery Biologist, at 503-231-6151. Individuals in the United States who are deaf, deafblind, hard of hearing, or have a speech disability may dial 711 (TTY, TDD, or TeleBraille) to access telecommunications relay services. Individuals outside the United States should use the relay services offered within their country to make international calls to the point-of-contact in the United States.

For information about the following specific species, contact the following people:

• Any of the 89 species occurring in Hawaii or American Sāmoa: Megan Laut, Recovery Program Manager, Pacific Islands Fish and Wildlife Office, 808-792-9400; pifwo_admin@fws.gov.

• Woodland caribou and Spalding's catchfly: Tracy Melbihess, Assistant State Supervisor, Idaho Fish and Wildlife Office, 208-378-5243; ifwo@fws.gov.

• Oregon silverspot butterfly: Jennifer Siani, Recovery Coordinator, Oregon Fish and Wildlife Office, 503-231-6179; fw1ofwo@fws.gov.

• Pocket gophers, island marble butterfly, showy stickseed, White Bluffs bladderpod, and Wenatchee Mountains checkermallow: Rose Agbalog, Recovery Coordinator, Washington Fish and Wildlife Office, 564-200-2124; WFWO_LR@fws.gov.

SUPPLEMENTARY INFORMATION:

Why do we conduct 5-year status reviews?

Under the Endangered Species Act of 1973, as amended (Act; 16 U.S.C. 1531, et seq.), we maintain lists of endangered and threatened wildlife and plant species (referred to as the List) in the Code of Federal Regulations (CFR) at 50 CFR 17.11 (for wildlife) and 17.12 (for plants). Section 4(c)(2) of the Act requires us to review each listed species' status at least once every 5 years. For additional information about 5-year status reviews, refer to our factsheet at https://www.fws.gov/project/five-year-status-reviews.

What information do we consider in our review?

A 5-year status review considers all new information available at the time of the review. In conducting these reviews, we consider the best scientific and commercial data that have become available since the listing determination or most recent status reviews, such as:

A. Species biology, including but not limited to population trends, distribution, abundance, demographics, and genetics;

B. Habitat conditions, including but not limited to amount, distribution, and suitability;

C. Conservation measures that have been implemented that benefit the species;

D. Threat status and trends in relation to the five listing factors (as defined in section 4(a)(1) of the Act); and

E. Other new information, data, or corrections, including but not limited to taxonomic or nomenclatural changes, identification of erroneous information contained in the List, and improved analytical methods.

Any new information will be considered during the 5-year status review and will also be useful in evaluating the ongoing recovery programs for these species.

Which species are under review?

This notice announces our active review of 100 species, including 6 mammals, 6 birds, 2 snails, 11 insects, and 75 plants, as listed in the table below.

Common name | Scientific name | Status | Known range of species occurrence | Final listing rule and publication date
ANIMALS
Mammals:
Pacific sheath-tailed bat (pe'ape'a vai, tagiti, beka beka) (South Pacific subspecies) | Emballonura semicaudata semicaudata | Endangered | American Sāmoa, Fiji, Sāmoa, Tonga, Vanuatu | 81 FR 65466, 9/22/2016.
Woodland caribou (southern mountain distinct population segment (DPS)) | Rangifer tarandus caribou | Endangered | Idaho, Washington, Canada (British Columbia) | 84 FR 52598, 10/02/2019.
Olympia pocket gopher | Thomomys mazama pugetensis | Threatened | Washington | 79 FR 19760, 4/9/2014.
Roy Prairie pocket gopher | Thomomys mazama glacialis | Threatened | Washington | 79 FR 19760, 4/9/2014.
Tenino pocket gopher | Thomomys mazama tumuli | Threatened | Washington | 79 FR 19760, 4/9/2014.
Yelm pocket gopher | Thomomys mazama yelmensis | Threatened | Washington | 79 FR 19760, 4/9/2014.
Birds:
Hawaiian duck (koloa maoli) | Anas wyvilliana | Endangered | Hawaii | 32 FR 4001, 3/11/1967.
Hawaiian coot ('alae ke'oke'o) | Fulica alai | Endangered | Hawaii | 35 FR 16047, 10/13/1970.
Friendly ground-dove (tu'aimeo) (American Sāmoa DPS) | Gallicolumba stairi | Endangered | American Sāmoa | 81 FR 65466, 9/22/2016.
Hawaiian common gallinule ('alae 'ula) | Gallinula galeata sandvicensis | Endangered | Hawaii | 32 FR 4001, 3/11/1967.
Ma'o (ma'oma'o) | Gymnomyza samoensis | Endangered | American Sāmoa, Sāmoa | 81 FR 65466, 9/22/2016.
Band-rumped storm-petrel ('akē 'akē) (Hawaii DPS) | Hydrobates castro | Endangered | Hawaii | 81 FR 67786, 9/30/2016.
Snails:
No common name | Eua zebrina | Endangered | American Sāmoa | 81 FR 65466, 9/22/2016.
No common name | Ostodes strigatus | Endangered | American Sāmoa | 81 FR 65466, 9/22/2016.
Insects:
Island marble butterfly | Euchloe ausonides insulanus | Endangered | Washington | 85 FR 26786, 5/5/2020.
Yellow-faced bee | Hylaeus anthracinus | Endangered | Hawaii | 81 FR 67786, 9/30/2016.
Yellow-faced bee | Hylaeus assimulans | Endangered | Hawaii | 81 FR 67786, 9/30/2016.
Yellow-faced bee | Hylaeus facilis | Endangered | Hawaii | 81 FR 67786, 9/30/2016.
Yellow-faced bee | Hylaeus hilaris | Endangered | Hawaii | 81 FR 67786, 9/30/2016.
Yellow-faced bee | Hylaeus kuakea | Endangered | Hawaii | 81 FR 67786, 9/30/2016.
Yellow-faced bee | Hylaeus longiceps | Endangered | Hawaii | 81 FR 67786, 9/30/2016.
Yellow-faced bee | Hylaeus mana | Endangered | Hawaii | 81 FR 67786, 9/30/2016.
Mariana eight-spot butterfly (ababbang, libweibwogh) | Hypolimnas octocula marianensis | Endangered | Hawaii | 80 FR 59423, 10/1/2015.
Orangeblack Hawaiian damselfly | Megalagrion xanthomelas | Endangered | Hawaii | 81 FR 67786, 9/30/2016.
Oregon silverspot butterfly | Speyeria zerene hippolyta | Threatened | Oregon, California, Washington | 45 FR 44935, 7/2/1980.
PLANTS
Flowering Plants:
Māhoe | Alectryon macrococcus | Endangered | Hawaii | 57 FR 20772, 5/15/1992.
No common name | Amaranthus brownii | Endangered | Hawaii | 61 FR 43178, 8/21/1996.
No common name | Bonamia menziesii | Endangered | Hawaii | 59 FR 56333, 11/10/1994.
Maui reedgrass | Calamagrostis expansa | Endangered | Hawaii | 81 FR 67786, 9/30/2016.
No common name | Calamagrostis hillebrandii | Endangered | Hawaii | 78 FR 32014, 5/28/2013.
'Āwikiwiki | Canavalia pubescens | Endangered | Hawaii | 78 FR 32014, 5/28/2013.
Kāmanomano | Cenchrus agrimonioides | Endangered | Hawaii | 61 FR 53108, 10/10/1996.
Kauila | Colubrina oppositifolia | Endangered | Hawaii | 59 FR 10305, 3/4/1994.
No common name | Cyanea kauaulaensis | Endangered | Hawaii | 81 FR 67786, 9/30/2016.
No common name | Cyperus neokunthianus | Endangered | Hawaii | 81 FR 67786, 9/30/2016.
No common name | Cyperus pennatiformis | Endangered | Hawaii | 59 FR 56333, 11/10/1994.
Ha'iwale | Cyrtandra hematos | Endangered | Hawaii | 81 FR 67786, 9/30/2016.
'Akoko | Euphorbia haeleeleana | Endangered | Hawaii | 61 FR 53108, 10/10/1996.
Heau | Exocarpos menziesii | Endangered | Hawaii | 81 FR 67786, 9/30/2016.
No common name | Festuca hawaiiensis | Endangered | Hawaii | 81 FR 67786, 9/30/2016.
Mēhamehame | Flueggea neowawraea | Endangered | Hawaii | 59 FR 56333, 11/10/1994.
Nānū | Gardenia brighamii | Endangered | Hawaii | 50 FR 33728, 8/21/1985.
Nānū | Gardenia remyi | Endangered | Hawaii | 81 FR 67786, 9/30/2016.
No common name | Gouania meyenii | Endangered | Hawaii | 56 FR 55770, 10/29/1991.
Showy stickseed | Hackelia venusta | Endangered | Washington | 67 FR 5515, 2/6/2002.
Ma'o hau hele | Hibiscus brackenridgei | Endangered | Hawaii | 59 FR 56333, 11/10/1994.
Hilo ischaemum | Ischaemum byrone | Endangered | Hawaii | 59 FR 10305, 3/4/1994.
Aupaka | Isodendrion longifolium | Threatened | Hawaii | 61 FR 53108, 10/10/1996.
Wahine noho kula | Isodendrion pyrifolium | Endangered | Hawaii | 59 FR 10305, 3/4/1994.
'Ohe | Joinvillea ascendens ssp. ascendens | Endangered | Hawaii | 81 FR 67786, 9/30/2016.
Kamapua'a | Kadua fluviatilis | Endangered | Hawaii | 81 FR 67786, 9/30/2016.
No common name | Kadua haupuensis | Endangered | Hawaii | 81 FR 67786, 9/30/2016.
No common name | Labordia lorenciana | Endangered | Hawaii | 81 FR 67786, 9/30/2016.
No common name | Lobelia niihauensis | Endangered | Hawaii | 56 FR 55770, 10/29/1991.
No common name | Lysimachia filifolia | Endangered | Hawaii | 59 FR 9304, 2/25/1994.
Uhiuhi | Mezoneuron kavaiense | Endangered | Hawaii | 51 FR 24672, 7/8/1986.
Kōlea | Myrsine fosbergii | Endangered | Hawaii | 81 FR 67786, 9/30/2016.
'Aiea | Nothocestrum latifolium | Endangered | Hawaii | 81 FR 67786, 9/30/2016.
Hōlei | Ochrosia haleakalae | Endangered | Hawaii | 81 FR 67786, 9/30/2016.
Hōlei | Ochrosia kilaueaensis | Endangered | Hawaii | 59 FR 10305, 3/4/1994.
No common name | Phyllostegia brevidens | Endangered | Hawaii | 81 FR 67786, 9/30/2016.
No common name | Phyllostegia parviflora | Endangered | Hawaii | 61 FR 53108, 10/10/1996.
White Bluffs bladderpod | Physaria douglasii ssp. tuplashensis | Threatened | Washington | 78 FR 23983, 4/23/2013.
Kuahiwi laukahi | Plantago princeps | Endangered | Hawaii | 59 FR 56333, 11/10/1994.
No common name | Platanthera holochila | Endangered | Hawaii | 61 FR 53108, 10/10/1996.
'Ihi | Portulaca villosa | Endangered | Hawaii | 81 FR 67786, 9/30/2016.
Baker's loulu | Pritchardia bakeri | Endangered | Hawaii | 81 FR 67786, 9/30/2016.
Loulu | Pritchardia remota | Endangered | Hawaii | 61 FR 43178, 8/21/1996.
'Ena'ena | Pseudognaphalium sandwicensium var. molokaiense | Endangered | Hawaii | 81 FR 67786, 9/30/2016.
Makou | Ranunculus hawaiensis | Endangered | Hawaii | 81 FR 67786, 9/30/2016.
Makou | Ranunculus mauiensis | Endangered | Hawaii | 81 FR 67786, 9/30/2016.
No common name | Sanicula sandwicensis | Endangered | Hawaii | 81 FR 67786, 9/30/2016.
'Iliahi | Santalum involutum | Endangered | Hawaii | 81 FR 67786, 9/30/2016.
Dwarf naupaka | Scaevola coriacea | Endangered | Hawaii | 51 FR 17971, 5/16/1986.
'Āwiwi | Schenkia sebaeoides | Endangered | Hawaii | 56 FR 55770, 10/29/1991.
No common name | Schiedea diffusa ssp. diffusa | Endangered | Hawaii | 81 FR 67786, 9/30/2016.
Mā'oli'oli | Schiedea pubescens | Endangered | Hawaii | 81 FR 67786, 9/30/2016.
No common name | Schiedea verticillata | Endangered | Hawaii | 61 FR 43178, 8/21/1996.
'Ōhai | Sesbania tomentosa | Endangered | Hawaii | 59 FR 56333, 11/10/1994.
'Ānunu | Sicyos lanceoloideus | Endangered | Hawaii | 81 FR 67786, 9/30/2016.
'Ānunu | Sicyos macrophyllus | Endangered | Hawaii | 81 FR 67786, 9/30/2016.
Wenatchee Mountains checkermallow | Sidalcea oregana var. calva | Endangered | Washington | 64 FR 71680, 12/22/1999.
No common name | Silene lanceolata | Endangered | Hawaii | 57 FR 46325, 10/8/1992.
Spalding's catchfly | Silene spaldingii | Threatened | Idaho, Washington, Oregon | 66 FR 51598, 10/10/2001.
Pōpolo | Solanum nelsonii | Endangered | Hawaii | 81 FR 67786, 9/30/2016.
'Aiakeakua, pōpolo | Solanum sandwicense | Endangered | Hawaii | 59 FR 9304, 2/25/1994.
No common name | Spermolepis hawaiiensis | Endangered | Hawaii | 59 FR 56333, 11/10/1994.
A'e | Zanthoxylum hawaiiense | Endangered | Hawaii | 59 FR 10305, 3/4/1994.
Ferns and Allies:
Palai lā'au | Adenophorus periens | Endangered | Hawaii | 59 FR 56333, 11/10/1994.
No common name | Asplenium dielerectum (=Diellia erecta) | Endangered | Hawaii | 59 FR 56333, 11/10/1994.
No common name | Asplenium diellaciniatum | Endangered | Hawaii | 81 FR 67786, 9/30/2016.
Pauoa | Ctenitis squamigera | Endangered | Hawaii | 59 FR 49025, 9/26/1994.
No common name | Deparia kaalaana | Endangered | Hawaii | 81 FR 67786, 9/30/2016.
Hohiu | Dryopteris glabra var. pusilla | Endangered | Hawaii | 81 FR 67786, 9/30/2016.
Olua | Hypolepis hawaiiensis var. mauiensis | Endangered | Hawaii | 81 FR 67786, 9/30/2016.
Kupukupu makali'i | Menisciopsis boydiae (=Cyclosorus boydiae) | Endangered | Hawaii | 81 FR 67786, 9/30/2016.
No common name | Microlepia strigosa var. mauiensis | Endangered | Hawaii | 81 FR 67786, 9/30/2016.
Wāwae'iole | Phlegmariurus nutans | Endangered | Hawaii | 59 FR 14482, 3/28/1994.
No common name | Phlegmariurus stemmermanniae (=Huperzia stemmermanniae) | Endangered | Hawaii | 81 FR 67786, 9/30/2016.
No common name | Pteris lidgatei | Endangered | Hawaii | 59 FR 49025, 9/26/1994.

Request for New Information

To ensure that a 5-year status review is complete and based on the best available scientific and commercial information, we request new information from all sources. See What Information Do We Consider in Our Review? for specific criteria. If you submit information, please support it with documentation such as maps, references, methods used to gather and analyze the data, and/or copies of any pertinent publications, reports, or letters by knowledgeable sources.

If you wish to provide information for any species listed in the table, please submit your comments and materials to the appropriate contact in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Completed and Active Reviews

A table including hyperlinks to the most recently completed 5-year status review for each listed species, as well as notices of 5-year status reviews that are currently in progress, is available at https://ecos.fws.gov/ecp/report/species-five-year-review.

Authority

This document is published under the authority of the Endangered Species Act of 1973, as amended (16 U.S.C. 1531 et seq.).

Bridget Fahey,
Acting Regional Director, U.S. Fish and Wildlife Service.

[FR Doc. 2024-05822 Filed 3-19-24; 8:45 am]

BILLING CODE 4333-15-P